DEPARTMENT OF ENERGY

Federal Energy Regulatory Commission

[Docket No. RP02-368-001]

Midwestern Gas Transmission Company; Notice of Compliance Tariff Filing

August 12, 2002.

Take notice that on August 6, 2002, Midwestern Gas Transmission Company (Midwestern) tendered for filing to become part of Midwestern's FERC Gas Tariff, Third Revised Volume No. 1, the following tariff sheets to become effective August 1, 2002:

Substitute Second Revised Sheet No. 5

Substitute First Revised Sheet No. 64

Substitute First Revised Sheet No. 410

Substitute First Revised Sheet No. 54

Substitute First Revised Sheet No. 73

Substitute First Revised Sheet No. 416A

Midwestern states that the purpose of this filing is comply with the Commission's order dated July 31, 2002, 100 FERC ¶ 61,134, wherein the Commission directed Midwestern to file revised tariff sheets in accordance with its directives contained in the July 31 Order in this proceeding.

Midwestern states that copies of this filing have been sent to all parties of record in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-20838 Filed 8-15-02; 8:45 am]

BILLING CODE 6717-01-P